DEPARTMENT OF COMMERCE

International Trade Administration

[C-570-980]

Crystalline Silicon Photovoltaic Cells, Whether or Not Assembled Into Modules, From the People's Republic of China: Second Postponement of Preliminary Determination in the Countervailing Duty Investigation

AGENCY: Import Administration, International Trade Administration, Department of Commerce.

FOR FURTHER INFORMATION CONTACT: Gene Calvert, Jun Jack Zhao, or Emily Halle, AD/CVD Operations, Office 6, Import Administration, International Trade Administration, U.S. Department of Commerce, 14th Street and Constitution Avenue NW., Washington, DC 20230; telephone: (202) 482-3586, (202) 482-1396 or (202) 482-0176, respectively.

SUPPLEMENTARY INFORMATION:

Background

On December 21, 2011, based on a request from Petitioner, SolarWorld Industries America, Inc. (SolarWorld), the Department of Commerce (the Department) extended the due date for the preliminary determination of the countervailing duty investigation of crystalline silicon photovoltaic cells, whether or not assembled into modules, from the People's Republic of China, to no later than February 13, 2012.¹

¹ See Crystalline Silicon Photovoltaic Cells, Whether or Not Assembled Into Modules, From the People's Republic of China: Postponement of Preliminary Determination in the Countervailing Duty Investigation, 76 FR 81914 (December 29, 2011).

Postponement of Due Date for the Preliminary Determination

Section 703(b)(1) of the Tariff Act of 1930, as amended (the Act), requires the Department to issue the preliminary determination in a countervailing duty investigation within 65 days after the date on which the Department initiated the investigation. However, section 703(c)(1)(A) of the Act permits the Department to postpone making the preliminary determination until no later than 130 days after the date on which it initiated the investigation if, among other reasons, the petitioner makes a timely request for an extension. In the instant investigation, SolarWorld made a second timely request on January 19, 2012, for further postponement of the preliminary countervailing duty determination by 18 days, to March 2, 2012.²

² See 19 CFR 351.205(e) and the petitioner's January 19, 2012 letter requesting a second postponement of the preliminary determination.

Therefore, pursuant to the discretion afforded to the Department under section 703(c)(1)(A) of the Act, and because the Department does not find any compelling reason to deny the request, we are extending the due date for the preliminary determination to no later than March 2, 2012.

This notice is issued and published pursuant to section 703(c)(2) of the Act and 19 CFR 351.205(f)(1).

Dated: January 25, 2012.
Paul Piquado,
Assistant Secretary for Import Administration.

[FR Doc. 2012-2064 Filed 1-30-12; 8:45 am]

BILLING CODE 3510-DS-P